DEPARTMENT OF THE INTERIOR

Fish and Wildlife Service

[FWS-R4-ES-2014-N133; FXES11130900000C2-145-FF09E32000]

Endangered and Threatened Wildlife and Plants; 5-Year Status Reviews of 27 Southeastern Species

AGENCY: Fish and Wildlife Service, Interior.

ACTION: Notice of initiation of reviews; request for information.

SUMMARY: We, the U.S. Fish and Wildlife Service (Service), are initiating 5-year status reviews of 27 species under the Endangered Species Act of 1973, as amended (Act). We conduct these reviews to ensure that the classification of species as threatened or endangered on the Lists of Endangered and Threatened Wildlife and Plants is accurate. A 5-year review is an assessment of the best scientific and commercial data available at the time of the review. We are requesting submission of information that has become available since the last review of each of these species.

DATES: To allow us adequate time to conduct these reviews, we must receive your comments or information on or before November 24, 2014. However, we will continue to accept new information about any listed species at any time.

ADDRESSES: For instructions on how to submit information and review information we receive on these species, see “Request for New Information.”

FOR FURTHER INFORMATION CONTACT: For species-specific information, see “Request for New Information.”

SUPPLEMENTARY INFORMATION:

Why do we conduct a 5-year review?

Under the Act (16 U.S.C. 1531 et seq.), we maintain lists of endangered and threatened wildlife and plant species in the Code of Federal Regulations (CFR) at 50 CFR 17.11 (for wildlife) and 17.12 (for plants). Section 4(c)(2)(A) of the Act requires us to review each listed species' status at least once every 5 years. Our regulations at 50 CFR 424.21 require that we publish a notice in the Federal Register announcing those species under active review. For additional information about 5-year reviews, go to http://www.fws.gov/endangered/what-we-do/recovery-overview.html, scroll down to “Learn More about 5-Year Reviews,” and click on our factsheet.

Species Under Review

This notice announces our active review of 17 species that are currently listed as endangered:

Fish and Wildlife

Florida salt marsh vole (Microtus pennsylvanicus dukecampbelli)

Bachman's warbler (Vermivora bachmanii)

Reticulated flatwoods salamander (Ambystoma bishopi)

Southern acornshell (Epioblasma othcaloogensis)

Ovate clubshell (Pleurobema perovatum)

Southern clubshell (Pleurobema decisum)

Upland combshell (Epioblasma metastriata)

Triangular kidneyshell (Ptychobranchus greenii)

Coosa moccasinshell (Medionidus parvulus)

Dark pigtoe (Pleurobema furvum)

Southern pigtoe (Pleurobema georgianum)

Kentucky cave shrimp (Palaemonias ganteri)

Plants

Chrysopsis floridana (Florida golden aster)

Lupinus aridorum (Scrub lupine)

Harperocallis flava (Harper's beauty)

Prunus geniculata (Scrub plum)

Warea amplexifolia (Wide-leaf warea)

This notice also announces our active review of 10 species that are currently listed as threatened:

Fish and Wildlife

Atlantic salt marsh snake (Nerodia clarkii taeniata)

Frosted flatwoods salamander (Ambystoma cingulatum)

Alabama heelsplitter (=inflated) (Potamilus inflatus)

Alabama moccasinshell (Medionidus acutissimus)

Orange-nacre mucket (Lampsilis perovalis)

Fine-lined pocketbook (Lampsilis altilis)

Squirrel Chimney cave shrimp (Palaemonetes cummingii)

Plants

Calyptronoma rivalis (Palma de manaca)

Geocarpon minimum (No common name)

Solidago albopilosa (White-haired goldenrod)

What information do we consider in our review?

A 5-year review considers the best scientific and commercial data that have become available since the current listing determination or most recent status review of each species, such as:

A. Species biology, including but not limited to population trends, distribution, abundance, demographics, and genetics;

B. Habitat conditions, including but not limited to amount, distribution, and suitability;

C. Conservation measures that have been implemented to benefit the species;

D. Threat status and trends (see five factors under heading “How Do We Determine Whether A Species Is Endangered or Threatened?”); and

E. Other new information, data, or corrections, including but not limited to taxonomic or nomenclatural changes, identification of erroneous information contained in the List, and improved analytical methods.

New information will be considered in the 5-year review and ongoing recovery programs for the species.

Definitions

A. Species includes any species or subspecies of fish, wildlife, or plant, and any distinct population segment of any species of vertebrate which interbreeds when mature.

B. Endangered means any species that is in danger of extinction throughout all or a significant portion of its range.

C. Threatened means any species that is likely to become an endangered species within the foreseeable future throughout all or a significant portion of its range.

How do we determine whether a species is endangered or threatened?

Section 4(a)(1) of the Act establishes that we determine whether a species is endangered or threatened based on one or more of the following five factors:

A. The present or threatened destruction, modification, or curtailment of its habitat or range;

B. Overutilization for commercial, recreational, scientific, or educational purposes;

C. Disease or predation;

D. The inadequacy of existing regulatory mechanisms; or

E. Other natural or manmade factors affecting its continued existence.

Request for New Information

To do any of the following, contact the person associated with the species you are interested in below:

A. To get more information on a species;

B. To submit information on a species; or

C. To review information we receive, which will be available for public inspection by appointment, during normal business hours, at the listed addresses.

Mammals

• Florida salt marsh vole: North Florida Ecological Services Field Office, U.S. Fish and Wildlife Service, 7915 Baymeadows Way, Suite 200, Jacksonville, FL 32256; fax 904-731-3045. For information on these species, contact Bill Brooks at the ES Field Office (by phone at 904-731-3136 or by email at bill_brooks@fws.gov).

Birds

• Bachman's warbler: South Carolina Ecological Services Field Office, U.S. Fish and Wildlife Service, 176 Croghan Spur Road, Suite 200, Charleston, SC 29407; fax 843-727-4218. For information on this species, contact Paula Sisson at the ES Field Office (by phone at 843-727-4707, or by email at paula_sisson@fws.gov).

Reptiles

• Atlantic salt marsh snake: North Florida Ecological Services Field Office, U.S. Fish and Wildlife Service, 7915 Baymeadows Way, Suite 200, Jacksonville, FL 32256; fax 904-731-3045. For information on these species, contact Todd Mecklenborg at the ES Field Office (by phone at 727-892-4104, or by email at todd_mecklenborg@fws.gov).

Amphibians

• Reticulated flatwoods salamander and frosted flatwoods salamander: Panama City Ecological Services Field Office, U.S. Fish and Wildlife Service, 1601 Balboa Ave., Panama City, FL 32405; fax 850-763-2177. For information on these species, contact Harold Mitchell at the ES Field Office (by phone at 850-769-0552, or by email at harold_mitchell@fws.gov).

Clams

• For all clam species: Alabama Ecological Services Field Office, U.S. Fish and Wildlife Service, 1208-B Main Street, Daphne, AL 36526; fax 251-441-6222. For information on these species, contact Jeff Powell at the ES Field Office (by phone at 251-441-5181, or by email at jeff_powell@fws.gov).

Crustaceans and Plants

• Kentucky cave shrimp and white haired goldenrod: Kentucky Ecological Services Field Office, U.S. Fish and Wildlife Service, 330 West Broadway, Suite 365, Frankfort, KY 40601; fax 502-695-1024. For information on this species, contact Mike Floyd at the ES Field Office (by phone at 502-695-0468, or by email at mike_floyd@fws.gov).

• Squirrel Chimney cave shrimp, Florida golden aster, scrub lupine, scrub plum: North Florida Ecological Services Field Office, U.S. Fish and Wildlife Service, 7915 Baymeadows Way, Suite 200, Jacksonville, FL 32256; fax 904-731-3045. For information on these species, contact Todd Mecklenborg at the ES Field Office (by phone at 727-892-4104, or by email at todd_mecklenborg@fws.gov).

• Geocarpon minimum: Arkansas Ecological Services Field Office, U.S. Fish and Wildlife Service, 26320 Highway 33, Augusta, AR 72006; fax 870-347-2908. For information on this species, contact Jason Phillips at the ES Field Office (by phone at 870-347-1617, or by email at jason_phillips@fws.gov).

• Harper's beauty: Panama City Ecological Services Field Office, U.S. Fish and Wildlife Service, 1601 Balboa Ave., Panama City, FL 32405; fax 850-763-2177. For information on these species, contact Vivian Negron-Ortiz at the ES Field Office (by phone at 850-769-0552 ext. 231, or by email at vivian_negronortiz@fws.gov).

• Palma de manaca: Caribbean Ecological Services Field Office, U.S. Fish and Wildlife Service, PO Box 491, Boqueron, PR 00622; fax 787-851-7440. For information on this species, contact Maritza Vargas at the ES Field Office (by phone at 787-851-7297 ext. 215, or by email at maritza_vargas@fws.gov).

We request any new information concerning the status of any of these 27 species. See “What Information Do We Consider In Our Review?” heading for specific criteria. Information submitted should be supported by documentation such as maps, bibliographic references, methods used to gather and analyze the data, and/or copies of any pertinent publications, reports, or letters by knowledgeable sources.

Public Availability of Comments

Before including your address, phone number, email address, or other personal identifying information in your comment, you should be aware that the entire comment—including your personal identifying information—may be made publicly available at any time. While you can ask us in your comment to withhold your personal identifying information from public review, we cannot guarantee that we will be able to do so.

Authority

We publish this document under the authority of the Endangered Species Act (16 U.S.C. 1531 et seq.).

Dated: August 1, 2014.
Cynthia K. Dohner,
Regional Director, Southeast Region.

[FR Doc. 2014-22594 Filed 9-22-14; 8:45 am]

BILLING CODE 4310-55-P